MORRIS K. UDALL AND STEWART L. UDALL FOUNDATION

Agency Information Collection Activities: Proposed Collection; Comment Request

AGENCY: Morris K. Udall and Stewart L. Udall Foundation.

ACTION: Notice of information collection; request for comment.

SUMMARY: In accordance with the Paperwork Reduction Act, the Morris K. Udall and Stewart L. Udall Foundation (Udall Foundation) is proposing one new Information Collection Request (ICR). The proposed ICR is necessary to gather feedback on agency delivery of its services and to improve service delivery and customer service.

DATES: Interested persons are invited to submit comments on or before October 11, 2024.

ADDRESSES: You may send comments, identified by ELIGIBILITY CRITERIA, by mail to Gwendolyn Franks, Morris K. Udall and Stewart L. Udall Foundation, 434 E University Blvd., Suite 300, Tucson, AZ 85705 or by email to info@udall.gov. Please note that comments submitted by fax and those submitted after the comment period will not be accepted.

FOR FURTHER INFORMATION CONTACT: For specific questions or to request additional information about this ICR, contact Gwendolyn Franks at franks@udall.gov, or by telephone at 520-901-8552. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Morris K. Udall and Stewart L. Udall Foundation, in accordance with the Paperwork Reduction Act of 1995 (PRA) (44 U.S.C. 3501 et seq.), seeks to gather feedback and information from its Education Programs alumni for its Board of Trustees' (Board) consideration as it determines how to update eligibility criteria for the Udall Foundation's Native American and Alaska Native programming. This ICR will give Udall Foundation Education Programs alumni an opportunity to provide feedback and additional information related to proposed updates to Udall Foundation eligibility criteria for its Native American and Alaska Native programming, including within the Undergraduate Scholarship, Congressional Internship, and Graduate Fellowship Education Programs. This will help the Udall Foundation assess the impact of any changes and improve customer service and service delivery related to the eligibility criteria. The Udall Foundation is soliciting comments on one proposed ICR. The proposed ICR is necessary to gather feedback on agency delivery of its services and to improve service delivery and customer service. It is not expected to have a significant economic impact on respondents or to affect a substantial number of small entities. The Udall Foundation is especially interested in public comment addressing the following issues: (1) is this collection necessary to the proper functions of the Udall Foundation; (2) will this information have practical utility; (3) is the estimate of burden accurate; (4) how might the Udall Foundation enhance the quality, utility, and clarity of the information to be collected; and (5) how might the Udall Foundation minimize the burden of this collection on the respondents, including through the use of information technology. Please note that written comments received in response to this notice will be considered public records. Also, comments submitted in response to this notice will be summarized and included in the request for the Office of Management and Budget's (OMB) approval.

Title of Collection: Survey of Alumni—Eligibility Criteria.

OMB Control Number: None.

Respondents/Affected Public: Individuals or households.

Total Estimated Number of Annual Responses: 100.

Total Estimated Number of Annual Burden Hours: 30.

Abstract: This voluntary anonymous survey collects information from Udall Foundation Education Programs alumni about their participation, after their award year has concluded, in the Undergraduate Scholarship, Congressional Internship, and/or Graduate Fellowship Programs; feedback related to proposed agency changes to eligibility criteria for Native American and Alaska Native programming; and feedback related to whether and how their level of participation in the Undergraduate Scholarship, Congressional Internship, and Graduate Fellowship Programs are likely to change if the eligibility criteria are updated as proposed. The results of this voluntary anonymous survey will be consolidated and summarized for the Udall Foundation Board of Trustees' consideration and will be the primary means by which the Board will receive information from alumni during the related policy decision-making process.

(20 U.S.C. 5601-5609)

Dated: August 6, 2024.
David P. Brown,
Executive Director, Morris K. Udall and Stewart L. Udall Foundation.

[FR Doc. 2024-17798 Filed 8-9-24; 8:45 am]

BILLING CODE 6820-FN-P